DEPARTMENT OF TRANSPORTATION

Federal Aviation Administration

14 CFR Part 39

[Docket No. FAA-2016-0460; Directorate Identifier 2015-NM-078-AD; Amendment 39-18577; AD 2016-13-13]

RIN 2120-AA64

Airworthiness Directives; Beechcraft Corporation (Type Certificate Previously Held by Hawker Beechcraft Corporation; Raytheon Aircraft Company) Airplanes

AGENCY: Federal Aviation Administration (FAA), DOT.

ACTION: Final rule.

SUMMARY: We are adopting a new airworthiness directive (AD) for certain Beechcraft Corporation Model BAe.125 Series 1000A and 1000B airplanes and Model Hawker 1000 airplanes. This AD was prompted by reports of inadvertent stowage of the thrust reversers, which can result in high forward engine thrust even though the throttle is commanding reverse thrust. This AD requires installing kits that include relays, associated wiring, and a thrust reverser fail annunciator. We are issuing this AD to prevent inadvertent stowage of the thrust reversers, which could cause a runway overrun during a rejected takeoff or landing, and consequent structural failure and possible injury to occupants.

DATES: This AD is effective August 12, 2016.

The Director of the Federal Register approved the incorporation by reference of a certain publication listed in this AD as of August 12, 2016.

ADDRESSES: For service information identified in this final rule, contact Beechcraft Corporation, TMDC, P.O. Box 85, Wichita, KS 67201-0085; telephone: 316-676-8238; fax: 316-671-2540; email: tmdc@beechcraft.com; Internet: http://pubs.beechcraft.com. You may view this referenced service information at the FAA, Transport Airplane Directorate, 1601 Lind Avenue SW., Renton, WA. For information on the availability of this material at the FAA, call 425-227-1221. It is also available on the Internet at http://www.regulations.gov by searching for and locating Docket No. FAA-2016-0460.

Examining the AD Docket

You may examine the AD docket on the Internet at http://www.regulations.gov by searching for and locating Docket No. FAA-2016-0460; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Jeffrey Englert, Aerospace Engineer, Systems and Propulsion Branch, ACE-116W, FAA, Wichita Aircraft Certification Office (ACO), 1801 Airport Road, Room 100, Dwight D. Eisenhower National Airport, Wichita, KS 67209; phone: 316-946-4167; fax: 316-946-4107; email: jeffrey.englert@faa.gov.

SUPPLEMENTARY INFORMATION:

Discussion

We issued a notice of proposed rulemaking (NPRM) to amend 14 CFR part 39 by adding an AD that would apply to certain Beechcraft Corporation Model BAe.125 series 1000A and 1000B airplanes and Model Hawker 1000 airplanes. The NPRM published in the Federal Register on January 21, 2016 (81 FR 3348) (“the NPRM”). The NPRM was prompted by reports of inadvertent stowage of the thrust reversers, which can result in high forward engine thrust even though the throttle is commanding reverse thrust. The NPRM proposed to require installing kits that include relays, associated wiring, and a thrust reverser fail annunciator. We are issuing this AD to prevent inadvertent stowage of the thrust reversers, which could cause a runway overrun during a rejected takeoff or landing, and consequent structural failure and possible injury to occupants.

Comments

We gave the public the opportunity to participate in developing this AD. The following presents the comments received on the NPRM and the FAA's response to each comment.

Support for the NPRM

Mr. Kevin Maher expressed support for the NPRM.

Request To Revise NPRM Requirement

Mr. Kenneth Rittenhouse of Becker Aviation LLC requested that we not require installation of the service kits, but leave the installation decision up to the individual owner/operator. Mr. Rittenhouse stated that the NPRM mentions that there have not been any issues reported involving Model BAe.125 airplanes but does mention that those airplanes have a similar engine/thrust reverser system to airplanes on which the problem was reported. Mr. Rittenhouse explained that if you examine the Learjet Model 60 and the Model Hawker 1000 systems, the Hawker 1000 is much more robust with redundant capabilities. Mr. Rittenhouse stated that he does not believe the unsafe condition has ever been an issue with the Model Hawker 1000 airplanes, and that it is extremely unjust to force operators to comply with this modification that costs 15 percent of the total value of the airplane.

We do not agree with the commenter's request. We recognize that maintaining airplanes in an airworthy condition is vital, but sometimes expensive. Installation of the service kit corrects a potential unsafe condition that could cause a runway overrun during a rejected takeoff or landing, and consequent structural failure and possible injury to occupants. The service kit was designed and proposed by the airplane original equipment manufacturer as its best correction option. The root cause of the unsafe condition is incorrect software logic within the engine's electronic control unit. We acknowledge the commenter's statement indicating that “the Hawker 1000 is much more robust with redundant capabilities,” however, the commenter did not submit any substantiating data to support that statement. We have determined that this unsafe condition exists on the Model Hawker 1000 airplanes as well as Beechcraft Corporation Model BAe.125 Series 1000A and 1000B airplanes. We might approve requests to revise the applicability of this AD if the request includes data that justifies such a revision and provides an acceptable level of safety. We have not changed this AD in this regard.

Conclusion

We reviewed the relevant data, considered the comments received, and determined that air safety and the public interest require adopting this AD as proposed, except for minor editorial changes. We have determined that these minor changes:

• Are consistent with the intent that was proposed in the NPRM for correcting the unsafe condition; and

• Do not add any additional burden upon the public than was already proposed in the NPRM.

Related Service Information Under 1 CFR Part 51

We reviewed Beechcraft Service Bulletin 78-4133, dated May 2015. The service information describes procedures for installing kits having part numbers 140-9005 and 140-9006, which include relays, associated wiring, and a thrust reverser fail annunciator. This service information is reasonably available because the interested parties have access to it through their normal course of business or by the means identified in the ADDRESSES section.

Costs of Compliance

We estimate that this AD affects 38 airplanes of U.S. registry.

We estimate the following costs to comply with this AD:

Estimated Costs
Action | Labor cost | Parts cost | Cost per product | Cost on U.S. operators
Installation | 340 work-hours × $85 per hour = $28,900 | $100,000 | $128,900 | $4,898,200

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-13-13 Beechcraft Corporation (Type Certificate Previously Held by Hawker Beechcraft Corporation; Raytheon Aircraft Company): Amendment 39-18577; Docket No. FAA-2016-0460; Directorate Identifier 2015-NM-078-AD.

(a) Effective Date

This AD is effective August 12, 2016.

(b) Affected ADs

None.

(c) Applicability

This AD applies to Beechcraft Corporation (type certificate previously held by Hawker Beechcraft Corporation; Raytheon Aircraft Company) airplanes, certificated in any category, as identified in paragraphs (c)(1) and (c)(2) of this AD.

(1) Model BAe.125 series 1000A and 1000B airplanes, serial numbers 258151, 258159, and 259004 through 259042 inclusive.

(2) Model Hawker 1000 airplanes, serial numbers 259003 and 259043 through 259052 inclusive.

(d) Subject

Air Transport Association (ATA) of America Code 78, Engine Exhaust.

(e) Unsafe Condition

This AD was prompted by reports of inadvertent stowage of the thrust reversers, which can result in high forward engine thrust even though the throttle is commanding reverse thrust. We are issuing this AD to prevent inadvertent stowage of the thrust reversers, which could cause a runway overrun during a rejected takeoff or landing, and consequent structural failure and possible injury to occupants.

(f) Compliance

Comply with this AD within the compliance times specified, unless already done.

(g) Installation

Within 600 flight hours or 12 months after the effective date of this AD, whichever occurs first: Install kits having part numbers 140-9005 and 140-9006, in accordance with the Accomplishment Instructions of Beechcraft Service Bulletin 78-4133, dated May 2015, except as specified in paragraph (h) of this AD.

(h) Exception to Service Information

A note in the Accomplishment Instructions of Beechcraft Service Bulletin 78-4133, dated May 2015, instructs operators to contact Beechcraft Corporation if any difficulty is encountered in accomplishing the service bulletin. However, any deviation from the actions required by paragraph (g) of this AD must be approved as an alternative method of compliance (AMOC) under the provisions of paragraph (i)(1) of this AD.

(i) Alternative Methods of Compliance

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j) of this AD.

(2) Before using any approved AMOC, notify your appropriate principal inspector, or lacking a principal inspector, the manager of the local flight standards district office/certificate holding district office.

(j) Related Information

For more information about this AD, contact Jeffrey Englert, Aerospace Engineer, Systems and Propulsion Branch, ACE-116W, FAA, Wichita ACO, 1801 Airport Road, Room 100, Dwight D. Eisenhower National Airport, Wichita, KS 67209; phone: 316-946-4167; fax: 316-946-4107; email: jeffrey.englert@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Beechcraft Service Bulletin 78-4133, dated May 2015.

(ii) Reserved.

(3) For Beechcraft service information identified in this AD, contact Beechcraft Corporation, TMDC, P.O. Box 85, Wichita, KS 67201-0085; telephone: 316-676-8238; fax: 316-671-2540; email: tmdc@beechcraft.com; Internet: http://pubs.beechcraft.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, June 22, 2016.
Dorr M. Anderson,
Acting Manager, Transport Airplane Directorate, Aircraft Certification Service.

[FR Doc. 2016-15622 Filed 7-7-16; 8:45 am]

BILLING CODE 4910-13-P